PENSION BENEFIT GUARANTY CORPORATION

Announcement of OMB Approvals of Information Collections

AGENCY: Pension Benefit Guaranty Corporation.

ACTION: Notice of OMB approval.

SUMMARY: The Office of Management and Budget (OMB) has approved certain Pension Benefit Guaranty Corporation (PBGC) information collections under the Paperwork Reduction Act. This notice lists the approved information collections and provides their OMB control numbers and current expiration dates.

FOR FURTHER INFORMATION CONTACT: Melissa Rifkin (rifkin.melissa@pbgc.gov), Attorney, Regulatory Affairs Division, Office of the General Counsel, Pension Benefit Guaranty Corporation, 1200 K Street NW, Washington, DC 20005-4026; 202-229-6563. TTY users may call the Federal Relay Service toll-free at 1-800-877-8339 and ask to be connected to 202-326-4400, extension 6563.

SUPPLEMENTARY INFORMATION: The Paperwork Reduction Act of 1995 (PRA) (44 U.S.C. 3501 et seq.) and its implementing regulations require Federal agencies, after receiving OMB approval of information collections, to display OMB control numbers and inform respondents of their legal significance. In accordance with those requirements, PBGC hereby notifies the public that the following information collections, that are contained in PBGC's regulations and do not have a corresponding form, have been approved by OMB.

• OMB Control Number 1212-0022, Mergers and Transfer Between Multiemployer Plans. The expiration date for this information collection contained in 29 CFR part 4231 is November 30, 2021.

• OMB Control Number 1212-0063, Filings for Reconsiderations. The expiration date for this information collection contained in 29 CFR part 4003 is August 31, 2022.

• OMB Control Number 1212-0068, Partitions of Eligible Multiemployer Plans. The expiration date for this information collection contained in 29 CFR part 4233 is February 28, 2022.

The PRA provides that an agency may not conduct or sponsor, and a person is not required to respond to, a collection of information unless it displays a currently valid OMB control number. Publication of this notice satisfies this requirement with respect to the above- listed information collections, as provided in 5 CFR 1320.5(b)(2)(ii).

Issued in Washington, DC, by:
Hilary Duke,
Assistant General Counsel for Regulatory Affairs, Pension Benefit Guaranty Corporation.

[FR Doc. 2019-26932 Filed 12-12-19; 8:45 am]

BILLING CODE 7709-02-P